DEPARTMENT OF ENERGY

Agency Information Collection Extension

AGENCY: Department of Energy.

ACTION: Submission for Office of Management and Budget (OMB) review; comment request.

SUMMARY: The Department of Energy (DOE) has submitted an information collection package to the OMB for extension under the provisions of the Paperwork Reduction Act of 1995. The package requests a three-year extension of OMB Control Number 1910-0100, entitled, Printing and Publishing Activities. The Department of Energy is required to submit an annual report to the Joint Committee on Printing (JCP) regarding its printing activities. The Department reports on information gathered and compiled from its facilities nationwide on the usage of in-house printing and duplicating facilities as well as all printing procedures from external vendors.

DATES: Comments regarding this collection must be received on or before July 25, 2005. If you anticipate that you will be submitting comments, but find it difficult to do so within the period of time allowed by this notice, please advise the OMB Desk Officer of your intention to make a submission as soon as possible. The Desk Officer may be telephoned at 202-395-4650.

ADDRESSES: Written comments should be sent to: DOE Desk Officer, Office of Information and Regulatory Affairs, Office of Management and Budget, New Executive Office Building, Room 10102, 735 17th Street, NW., Washington, DC 20503.

Comments should also be addressed to:

Sharon A. Evelin, U.S. Department of Energy, M/S IM-11, 19901 Germantown Road, Germantown, Maryland, 20874, or by fax at 301-903-9061 or by e-mail at Sharon.evelin@hq.doe.gov, and to Dallas Woodruff, Team Leader Printing Specialist, US Department of Energy, 1000 Independence Ave., SW., M/S ME-421, Washington, DC 20585, or by fax at 202-586-0753 or by e-mail at dallas.woodruff@hq.doe.gov.

FOR FURTHER INFORMATION CONTACT: The individuals listed in the above ADDRESSES.

SUPPLEMENTARY INFORMATION: This package contains: (1) OMB No.: 1910-0100; (2) Package Title: Printing and Publishing Activities; (3) Purpose: The Department of Energy collects data from its printing and duplicating facilities nationwide regarding its inventory and printing procurement activities. This information is reported to the Joint Committee on Printing. See U.S. Code Title 44, sections 101-103. (4) Estimated Number of Respondents: 336; (5) Estimated Total Burden Hours: 947 (6) Number of Collections: The package contains 4 information and/or recordkeeping requirements.

Statutory Authority: Rules pursuant to Title 44 U.S. Code sections 101-103.

Issued in Washington, DC on June 17, 2005.
Lorretta Bryant,
Acting Director, Records Management Division, Office of the Chief Information Officer.

[FR Doc. 05-12520 Filed 6-23-05; 8:45 am]

BILLING CODE 6450-01-P